SECURITIES AND EXCHANGE COMMISSION

[File No. 1-12451]

Issuer Delisting; Notice of Application of New York Health Care, Inc. To Withdraw Its Common Stock, $.01 Par Value, From Listing and Registration on the Boston Stock Exchange, Inc.

February 4, 2005.

On January 21, 2005, New York Health Care, Inc., a New York corporation (“Issuer”), filed an application with the Securities and Exchange Commission (“Commission”), pursuant to Section 12(d) of the Securities Exchange Act of 1934 (“Act”) ¹ and Rule 12d2-2(d) thereunder,² to withdraw its common stock, $.01 par value (“Security”), from listing and registration on the Boston Stock Exchange, Inc. (“BSE” or “Exchange”).

¹ 15 U.S.C. 78l(d).

² 17 CFR 240.12d2-2(d).

On January 19, 2005, the Board of Directors (“Board”) of the Issuer approved resolutions to withdraw the Issuer's Security from listing and registration on the BSE. In making the decision to delist the Security from the BSE, the Issuer stated various factors, including: (i) That the original listing of the Security on the Exchange was required by the underwriter of the Issuer's initial public offering—a contractual obligation that has expired; (ii) that the Security has not traded on the Exchange from at least January 2002 to the time of the application; (iii) the expense involved in responding to the Exchange's request ³ to make any necessary filings and paying any associated fees to continue listing the Security on the Exchange; and (iv) that the Security currently trades on the Over-the-Counter Market on the Pink Sheets.

³ By letter dated December 3, 2004, the Exchange requested that the Issuer file a listing of additional shares form with the Exchange and pay any fees associated therewith, and provide information regarding: (i) The Issuer's previously reported delisting of its common stock from Nasdaq and the investigation resulting from the resignation of a former director; (ii) the business purpose of the resignations of the Issuer's Chief Executive Officer and Chief Financial Officer, which are anticipated to occur upon the completion of the Issuer's private placement of securities; (iii) the current number of beneficial holders of the Issuer, and (iv) a potential rescission right on certain shares issued to holders of BioBalance stock. On December 20, 2004, the Issuer requested an extension of the December 22, 2004 deadline to have more time to decide whether to expend the time and resources necessary to respond to the Exchange or to voluntarily delist. On December 20, 2004, the Exchange granted the request and extended the Issuer's time to either respond or voluntarily delist until January 14, 2005.

The Issuer stated in its application that it has complied with BSE procedures for delisting by filing the required documents governing the withdrawal of securities from listing and registration on the BSE.

The Issuer's application relates solely to withdrawal of the Security from listing on the BSE and from registration under Section 12(b) of the Act,⁴ and shall not affect its obligation to be registered under Section 12(g) of the Act.⁵

⁴ 15 U.S.C. 78l(b).

⁵ 15 U.S.C. 78l(g).

Any interested person may, on or before March 1, 2005, comment on the facts bearing upon whether the application has been made in accordance with the rules of the BSE, and what terms, if any, should be imposed by the Commission for the protection of investors. All comment letters may be submitted by either of the following methods:

Electronic Comments

• Send an e-mail to rule-comments@sec.gov. Please include the File Number 1-12451 or;

Paper Comments

• Send paper comments in triplicate to Jonathan G. Katz, Secretary, Securities and Exchange Commission, 450 Fifth Street, NW., Washington, DC 20549-0609.

All submissions should refer to File Number 1-12451. This file number should be included on the subject line if e-mail is used. To help us process and review your comments more efficiently, please use only one method. The Commission will post all comments on the Commission's Internet Web site (http://www.sec.gov/rules/delist.shtml). Comments are also available for public inspection and copying in the Commission's Public Reference Room. All comments received will be posted without change; we do not edit personal identifying information from submissions. You should submit only information that you wish to make available publicly.

The Commission, based on the information submitted to it, will issue an order granting the application after the date mentioned above, unless the Commission determines to order a hearing on the matter.

For the Commission, by the Division of Market Regulation, pursuant to delegated authority.⁶
⁶ 17 CFR 200.30-3(a)(1).
Jonathan G. Katz,
Secretary.

[FR Doc. E5-563 Filed 2-9-05; 8:45 am]

BILLING CODE 8010-01-P